DEPARTMENT OF ENERGY

Federal Energy Regulatory Commission

Combined Notice of Filings #1

Take notice that the Commission received the following electric corporate filings:

Docket Numbers: EC21-125-000.

Applicants: PSEG New Haven LLC, PSEG Power Connecticut LLC, PSEG Power New York LLC, Generation Bridge II, LLC.

Description: Joint Application for Authorization Under Section 203 of the Federal Power Act of PSEG New Haven LLC, et al.

Filed Date: 9/2/21.

Accession Number: 20210902-5147.

Comment Date: 5 p.m. ET 11/2/21.

Docket Numbers: EC21-126-000.

Applicants: Utah Solar Holdings II LLC, Enterprise Solar, LLC, Escalante Solar I, LLC, Escalante Solar II, LLC, Escalante Solar III, LLC, Iron Springs Solar, LLC, Granite Mountain Solar West, LLC, Granite Mountain Solar East, LLC.

Description: Joint Application for Authorization Under Section 203 of the Federal Power Act of Utah Solar Holdings II LLC, et al.

Filed Date: 9/3/21.

Accession Number: 20210903-5152.

Comment Date: 5 p.m. ET 9/24/21.

Docket Numbers: EC21-127-000.

Applicants: Mojave 3/4/5 LLC, Mojave 16/17/18 LLC, Oasis Power Partners, LLC, Sagebrush, a California partnership, Sagebrush ESS, LLC, Tehachapi Plains Wind, LLC.

Description: Joint Application for Authorization Under Section 203 of the Federal Power Act of Mojave 3/4/5 LLC, et al.

Filed Date: 9/3/21.

Accession Number: 20210903-5154.

Comment Date: 5 p.m. ET 9/24/21.

Take notice that the Commission received the following exempt wholesale generator filings:

Docket Numbers: EG21-236-000.

Applicants: Sagebrush ESS, LLC.

Description: Notice of Self-Certification of Exempt Wholesale Generator Status of Sagebrush ESS, LLC.

Filed Date: 8/27/21.

Accession Number: 20210827-5210.

Comment Date: 5 p.m. ET 9/17/21.

Docket Numbers: EG21-237-000.

Applicants: Azure Sky Wind Project, LLC.

Description: Notice of Self-Certification of Exempt Wholesale Generator Status of Azure Sky Wind Project, LLC.

Filed Date: 9/3/21.

Accession Number: 20210903-5052.

Comment Date: 5 p.m. ET 9/24/21.

Docket Numbers: EG21-238-000.

Applicants: Alta Farms Wind Project II, LLC.

Description: Notice of Self-Certification of Exempt Wholesale Generator Status of Alta Farms Wind Project II, LLC.

Filed Date: 9/3/21.

Accession Number: 20210903-5053.

Comment Date: 5 p.m. ET 9/24/21.

Docket Numbers: EG21-239-000.

Applicants: Azure Sky Wind Storage, LLC.

Description: Notice of Self-Certification of Exempt Generator Status of FC of Azure Sky Wind Storage, LLC.

Filed Date: 9/3/21.

Accession Number: 20210903-5060.

Comment Date: 5 p.m. ET 9/24/21.

Docket Numbers: EG21-240-000.

Applicants: Ranchland Wind Project II, LLC.

Description: Notice of Self-Certification of Exempt Wholesale Generator Status of Ranchland Wind Project II, LLC.

Filed Date: 9/3/21.

Accession Number: 20210903-5061.

Comment Date: 5 p.m. ET 9/24/21.

Docket Numbers: EG21-241-000.

Applicants: Ranchland Wind Storage, LLC.

Description: Notice of Self- Certification of Exempt Wholesale Generator Status of Ranchland Wind Storage, LLC.

Filed Date: 9/3/21.

Accession Number: 20210903-5062.

Comment Date: 5 p.m. ET 9/24/21.

Docket Numbers: EG21-242-000.

Applicants: Blue Jay Solar I, LLC.

Description: Notice of Self-Certification of Exempt Wholesale Generator Status of Blue Jay Solar I, LLC.

Filed Date: 9/3/21.

Accession Number: 20210903-5065.

Comment Date: 5 p.m. ET 9/24/21.

Docket Numbers: EG21-243-000.

Applicants: Skipjack Solar Center, LLC.

Description: Notice of Self-Certification of Exempt Wholesale Generator Status of Skipjack Solar Center, LLC.

Filed Date: 9/3/21.

Accession Number: 20210903-5104.

Comment Date: 5 p.m. ET 9/24/21.

Take notice that the Commission received the following electric rate filings:

Docket Numbers: ER17-1609-003; ER19-1215-002.

Applicants: Cricket Valley Energy Center, LLC, Carroll County Energy LLC.

Description: Response to August 20, 2021 Deficiency Letter of Carroll County Energy LLC, et al.

Filed Date: 9/2/21.

Accession Number: 20210902-5143.

Comment Date: 5 p.m. ET 9/23/21.

Docket Numbers: ER20-2926-001.

Applicants: Altamont Winds LLC.

Description: Supplement to August 20, 2021 Notice of Non-Material Change in Status of Altamont Winds LLC.

Filed Date: 9/2/21.

Accession Number: 20210902-5144.

Comment Date: 5 p.m. ET 9/23/21.

Docket Numbers: ER21-2381-001.

Applicants: Wisconsin Electric Power Company.

Description: Tariff Amendment: Request for Deferral of Action to be effective 12/31/9998.

Filed Date: 9/2/21.

Accession Number: 20210902-5125.

Comment Date: 5 p.m. ET 9/23/21.

Docket Numbers: ER21-2478-001.

Applicants: Milford Power Company, LLC.

Description: Tariff Amendment: Administrative Cancellations and Revisions to Tariffs to be effective 9/20/2021.

Filed Date: 9/2/21.

Accession Number: 20210902-5133.

Comment Date: 5 p.m. ET 9/23/21.

Docket Numbers: ER21-2825-000.

Applicants: PJM Interconnection, L.L.C.

Description: § 205(d) Rate Filing: Amendment to Original WMPA Service Agreement No. 5589; Queue No. AE2-115 to be effective 1/8/2020.

Filed Date: 9/2/21.

Accession Number: 20210902-5131.

Comment Date: 5 p.m. ET 9/23/21.

Docket Numbers: ER21-2826-000.

Applicants: NRG Curtailment Solutions, Inc.

Description: Baseline eTariff Filing: Application for Market-Based Rate Authorization and Request for Waivers to be effective 9/4/2021.

Filed Date: 9/3/21.

Accession Number: 20210903-5040.

Comment Date: 5 p.m. ET 9/24/21.

Docket Numbers: ER21-2827-000.

Applicants: Southern California Edison Company.

Description: § 205(d) Rate Filing: IFA & DSA Corona Porphyry Interconnection Project SA No. 1153 & 1154 to be effective 9/4/2021.

Filed Date: 9/3/21.

Accession Number: 20210903-5072.

Comment Date: 5 p.m. ET 9/24/21.

Docket Numbers: ER21-2828-000.

Applicants: Midcontinent Independent System Operator, Inc.

Description: § 205(d) Rate Filing: 2021-09-03_SA 3698 NSPM-GRE T-T (Koch 115kV) to be effective 9/4/2021.

Filed Date: 9/3/21.

Accession Number: 20210903-5086.

Comment Date: 5 p.m. ET 9/24/21.

Docket Numbers: ER21-2829-000.

Applicants: East Line Solar, LLC.

Description: § 205(d) Rate Filing: East Line Solar, LLC Shared Facilities Agreement to be effective 10/1/2021.

Filed Date: 9/3/21.

Accession Number: 20210903-5089.

Comment Date: 5 p.m. ET 9/24/21.

Docket Numbers: ER21-2830-000.

Applicants: Central Line Solar, LLC.

Description: § 205(d) Rate Filing: Central Line Solar, LLC Shared Facilities Agreement to be effective 10/1/2021.

Filed Date: 9/3/21.

Accession Number: 20210903-5099.

Comment Date: 5 p.m. ET 9/24/21.

Docket Numbers: ER21-2831-000.

Applicants: Northern States Power Company, a Minnesota corporation.

Description: § 205(d) Rate Filing: CAPX-BRKGS-TCEA-538-0.1.0 to be effective 11/2/2021.

Filed Date: 9/3/21.

Accession Number: 20210903-5106.

Comment Date: 5 p.m. ET 9/24/21.

Docket Numbers: ER21-2832-000.

Applicants: Eagle Creek Reusens Hydro, LLC.

Description: Baseline eTariff Filing: Reactive Power Tariff Application to be effective 10/1/2021.

Filed Date: 9/3/21.

Accession Number: 20210903-5133.

Comment Date: 5 p.m. ET 9/24/21.

Docket Numbers: ER21-2833-000.

Applicants: Great Falls Hydroelectric Company.

Description: Baseline eTariff Filing: Reactive Power Tariff Application to be effective 10/1/2021.

Filed Date: 9/3/21.

Accession Number: 20210903-5141.

Comment Date: 5 p.m. ET 9/24/21.

Docket Numbers: ER21-2834-000.

Applicants: ALLETE, Inc.

Description: § 205(d) Rate Filing: Transmission and Service Agreements Tariff, 306-NSP, CAPX Fargo CMA Agmt to be effective 4/24/2013.

Filed Date: 9/3/21.

Accession Number: 20210903-5158.

Comment Date: 5 p.m. ET 9/24/21.

Docket Numbers: ER21-2835-000.

Applicants: ALLETE, Inc.

Description: § 205(d) Rate Filing: Transmission and Service Agreements Tariff, 307-NSP, CAPX Fargo OMA Agmt to be effective 4/24/2013.

Filed Date: 9/3/21.

Accession Number: 20210903-5160.

Comment Date: 5 p.m. ET 9/24/21.

Docket Numbers: ER21-2836-000.

Applicants: ALLETE, Inc.

Description: § 205(d) Rate Filing: Transmission and Service Agreements Tariff, 281-NSP, CAPX Fargo TCEA Agmt to be effective 4/24/2013.

Filed Date: 9/3/21.

Accession Number: 20210903-5161.

Comment Date: 5 p.m. ET 9/24/21.

Docket Numbers: ER21-2837-000.

Applicants: ALLETE, Inc.

Description: § 205(d) Rate Filing: FERC Electric Tariff, OMA, Bemidji-Grand Rapids Operation and Maintenance Agmt to be effective 4/24/2013.

Filed Date: 9/3/21.

Accession Number: 20210903-5166.

Comment Date: 5 p.m. ET 9/24/21.

Docket Numbers: ER21-2838-000.

Applicants: Public Service Company of Colorado.

Description: § 205(d) Rate Filing: 2021-09-03 Gen Rplcmt Coord agrmt-Excel Engineering to be effective 9/4/2021.

Filed Date: 9/3/21.

Accession Number: 20210903-5167.

Comment Date: 5 p.m. ET 9/24/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 3, 2021.
Kimberly D. Bose,
Secretary.

[FR Doc. 2021-19532 Filed 9-9-21; 8:45 am]

BILLING CODE 6717-01-P